DEPARTMENT OF THE INTERIOR

Bureau of Indian Affairs

Indian Gaming

AGENCY: Bureau of Indian Affairs, Interior.

ACTION: Notice of amendment to approved Tribal-State compact.

SUMMARY: This notice publishes the approval of the Seventh Amendment to the Agreement between the Crow Tribe of Montana and the State of Montana Concerning Class III Gaming.

DATES: Effective Date: April 22, 2009.

FOR FURTHER INFORMATION CONTACT: Paula Hart, Acting Director, Office of Indian Gaming, Office of the Deputy Assistant Secretary—Policy and Economic Development, Washington, DC 20240, (202) 219-4066.

SUPPLEMENTARY INFORMATION: Pursuant to section 11 of the Indian Gaming Regulatory Act of 1988 (IGRA), Public Law 100-497, 25 U.S.C. 2710, the Secretary of the Interior shall publish in the Federal Register notice of the approved Tribal-State compacts for the purpose of engaging in Class III gaming activities on Indian lands. This Amendment increases the number of Class III video gambling machines available for play to 400; allows for Tribal gaming operations to be located anywhere on the reservation; increases the prize limit for Class III gaming to $2,000.00; increases the wager limit on Tribally owned machines to $5.00; and sets out the technical and internal control standards for Class III gaming machines on the reservation.

Dated: April 15, 2009.
George T. Skibine,
Deputy Assistant Secretary for Policy and Economic Development.

[FR Doc. E9-9258 Filed 4-21-09; 8:45 am]

BILLING CODE 4310-4N-P